DEPARTMENT OF TRANSPORTATION

Federal Aviation Administration

RTCA Special Committee 186: Automatic Dependent Surveillance-Broadcast (ADS-B)

AGENCY: Federal Aviation Administration (FAA), DOT.

ACTION: Notice of RTCA Special Committee 186 meeting.

SUMMARY: The FAA is issuing this notice to advise the public of a meeting of RTCA Special Committee 186: Automatic Dependent Surveillance—Broadcast (ADS-B).

DATES: The meeting will be held November 7-10, 2006 starting at 9 a.m. (unless stated otherwise).

ADDRESSES: The meeting will be held at RTCA, Inc., 1828 L Street, NW., Suite 805, Washington, DC 20036.

FOR FURTHER INFORMATION CONTACT: RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 186 meeting.

• November 7:

• ASSAP Subgroup.

• CDTI Subgroup.

• November 8:

• ASSAP Subgroup.

• CDTI Subgroup.

• November 9:

• Opening Plenary Session (Chairman's Introductory Remarks, Review of Meeting Agenda, Review/Approval of the Thirty-Eighth Meeting Summary, RTCA Paper No. 222-06/SC-186-241, Date, Place and Time of Next Meeting).

• STP MOPS—Review Status.

• Final Review/Approval-Proposed Final Draft Change 1 to DO-242A—Minimum Aviation System Performance Standards for Automatic Dependent Surveillance-Broadcast (ADS-B), RTCA Paper No. 230-06/SC-186-243.

• Final Review/Approval-Proposed Final Draft Change 2 to DO-260A—Minimum Operational Performance Standards for 1090 MHz Extended Squitter Automatic Dependent Surveillance-Broadcast (ADS-B) and Traffic Information Services-Broadcast (TIS-B), RTCA Paper No. 231-06/SC-186-244.

• Final Review/Approval-Proposed Final Draft Change 1 to DO-282A—Minimum Operational Performance Standards for Universal Access Transceiver (UAT) Automatic Dependent Surveillance-Broadcast, RTCA Paper No. 232-06/SC-186-245.

• Final Review/Approval-Proposed Final Draft Change 1 to DO-289—Minimum Aviation System Performance Standards (MASPS) for Aircraft Surveillance Applications (ASA), RTCA Paper No. 233-06/SCI-186-246.

• Discussion—TIS-B Management Messages/TIS-B MOPS.

• Closing Plenary Session (New Business, Other Business, Review Action Items/Work Program, Adjourn).

• ASSAP Subgroup.

• CDTI Subgroup.

• November 10:

• ASSAP & CDTI Subgroups—Joint Session.

Note: AD-Application Development

ASAS-Aircraft Surveillance Applications System

ASSAP-Airborne Surveillance & Separation Assurance Processing

CDTI-Cockpit Display of Traffic Information

MOPS-Minimum Operational Performance Standards

NRA-Non-Radar Airspace

RFG-Requirements Focus Group

STP-Surveillance Transmit Processing

Attendance is open to the interested public but limited to space availability. with the approval of the chairmen, members of the public may present oral statements at the meeting. Persons wishing to present statements or obtain information should contact the person listed in the FOR FURTHER INFORMATION CONTACT section. Members of the public may present a written statement to the committee at any time.

Issued in Washington, DC, October 11, 2006.
Francisco Estrada C.,
RTCA Advisory Committee.

[FR Doc. 06-8851 Filed 10-24-06; 8:45 am]

BILLING CODE 4910-13-M